FEDERAL COMMUNICATIONS COMMISSION

Sunshine Act Meeting; Open Commission Meeting, Thursday, October 10, 2002

October 3, 2002.

The Federal Communications Commission will hold an Open Meeting on the subjects listed below on , which is scheduled to commence at in Room TW-C305, at 445 12th Street, SW, Washington, DC.

Item No. | Bureau | Subject
1 | International | Title: International Settlements Policy Reform and International Settlement Rates (IB Docket No. 96-261). Summary: The Commission will consider a Notice of Proposed Rulemaking concerning the reform of the International Settlements Policy, its international simple resale and benchmarks policy, and the issue of foreign mobile termination rates.
2 | Media | Title: Digital Audio Broadcasting Systems and Their Impact on the Terrestrial Radio Broadcast Service (MM Docket No. 99-325). Summary: The Commission will consider a First Report and Order concerning digital operation by terrestrial radio broadcasters.
3 | Enforcement | Title: SBC Communications, Inc., Apparent Liability for Forfeiture. Summary: The Commission will consider a Forfeiture Order concerning compliance with the shared transport condition of the SBC/Ameritech merger order.
4 | Enforcement | The Enforcement Bureau will report to the Commission on recent enforcement activities.

Additional information concerning this meeting may be obtained from Maureen Peratino or David Fiske, Office of Media Relations, telephone number (202) 418-0500; TTY 1-888-835-5322.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@aol.com.

This meeting can be viewed over George Mason University's Capitol Connection. The Capitol Connection also will carry the meeting live via the Internet. For information on these services call (703) 993-3100. Audio/Video coverage of the meeting will be broadcast live over the Internet from the FCC's Audio/Video Events web page at http://www.fcc.gov/realaudio. Audio and video tapes of this meeting can be purchased from CACI Productions, 341 Victory Drive, Herndon, VA 20170, telephone number (703) 834-1470, Ext. 19; fax number (703) 834-0111.

Federal Communications Commission.
William F. Caton,
Deputy Secretary.

[FR Doc. 02-25759 Filed 10-7-02; 10:32 am]

BILLING CODE 6712-01-P